DEPARTMENT OF HEALTH AND HUMAN SERVICES

Administration for Children and Families

Statement of Organization, Functions and Delegations of Authority

Correction

In notice document 01-10445, appearing on page 20996, in the issue of Thursday, April 26, 2001, make the following correction:

On page 20996, in the third column, in the first full paragraph, in the seventh line, “421(b)(3)” should read “412(b)(3)”.

[FR Doc. C1-10445 Filed 5-7-01; 8:45 am]

BILLING CODE 1505-01-D